DEPARTMENT OF VETERANS AFFAIRS

Unprocessed Election into the Rapid Appeals Modernization Program

AGENCY: Department of Veterans Affairs.

ACTION: Notice.

SUMMARY: The Department of Veterans Affairs (VA) announces it will no longer process elections (opt-ins) into the Rapid Appeals Modernization Program (RAMP). To ensure an orderly conclusion of this pilot program with respect to RAMP elections that have not yet been processed, VA is providing a 90-day transition period for claimants to notify VA of any such unprocessed RAMP elections before VA terminates processing. Claimants who previously submitted a timely RAMP election that has not yet been processed may request that VA process it. VA must receive an eligible claimant's request to process a pending RAMP election on or before October 18, 2022. Requests that VA process a previously submitted timely RAMP election must be sent by email to RAMP@VA.gov. No response to this notice is required. VA will continue to process pending claims and appeals for all claimants, regardless of whether a claimant responds to this notice.

DATES: Discontinuation of the processing of elections for the Rapid Appeals Modernization Program is effective October 18, 2022.

ADDRESSES: Claimants, or their authorized representative, who wish to have their previously submitted RAMP election honored may submit a request. Requests must be sent via email to RAMP@VA.gov. Only claimants who are sent a VA notice accepting a RAMP election will be eligible to participate in RAMP.

FOR FURTHER INFORMATION CONTACT: Carling K. Bennett, Senior Management and Program Analyst, Program Administration, Office of Administrative Review, Veterans Benefits Administration, Department of Veterans Affairs, 810 Vermont Avenue NW, Washington, DC, (202) 632-5347.

SUPPLEMENTARY INFORMATION:

On August 23, 2017, the President signed into law the Veterans Appeals Improvement and Modernization Act of 2017, Public Law 115-55 (AMA), creating a new, modernized claims and appeals framework for pursuing VA benefits. VA fully implemented the AMA on February 19, 2019. However, prior to implementation, section 4(a) of the AMA authorized VA to implement programs for testing the feasibility and advisability of any facet of the new appeals system. As such, VA developed RAMP. Starting in November 2017, RAMP allowed certain Veterans with appeals pending in the “legacy” system for disability compensation to opt-in to the modernized system by electing a supplemental claim or higher-level review (HLR). RAMP participants benefited from early resolution and the effective date protections of the new process.

RAMP provided VA with information that improved the procedures and information technology systems used to fully implement the AMA in February 2019. Feedback received from Veterans, Veterans Service Organizations, employees and other stakeholders during the RAMP pilot period also led VA to revise its forms and notices. VA likewise identified additional training resources and materials regarding the new review options and procedures. As of the end of February 2019, RAMP elections resulted in a combined 85,993 HLR requests and supplemental claims, resulting in 65,670 decisions that released total payments of $267,403,115 to Veterans.

On February 14, 2019, VA issued a press release advising that it would discontinue accepting RAMP elections postmarked after February 15, 2019 (and non-postmarked elections received after February 25, 2019) prior to full implementation of the AMA on February 19, 2019. Section 4(c) of the AMA prohibits VA from carrying out pilot programs such as RAMP after it fully implements the law, which it did on February 19, 2019. However, VA continued thereafter to process RAMP elections postmarked on or before February 15, 2019, to conclude the program in an orderly fashion.

Although VA believes that decisions have been issued on the majority of timely RAMP elections, occasionally VA discovers a RAMP election that has not been processed (residual RAMP election). In these situations, the subject claims have continued to move through the legacy appeals system such that they are now in a different procedural or temporal posture than they were when the RAMP election was filed. Because the posture of the subject claims has often changed, it generally is not clear whether the claimant still desires to make a RAMP election due to the passage of time. Claimants may no longer wish to pursue a previously submitted RAMP election, for example, if a legacy appeal has been certified to the Board or if a favorable, or partly favorable, legacy decision has been received. In accordance with VA's statutory obligation to wind RAMP, this notice announces a procedure to terminate the processing of RAMP elections.

From the date of publication of this notice, VA is establishing a 90-day period for claimants to notify VA if they believe they have submitted a timely RAMP election that has not been processed by VA. Upon receipt of such notification, VA will accept such a residual RAMP election if (1) VA determines that the claimant in fact has a residual, unprocessed RAMP election in the claims file, (2) the RAMP election was properly and timely filed (postmarked on or before February 15, 2019; or non-postmarked elections received on or before February 25, 2019), (3) the applicable claim or claims are still in appellate status before the agency and other RAMP eligibility requirements are met and (4) the claimant has not already successfully opted-in to the new modernized system through another avenue. If VA determines that the criteria for acting on a claimant's notification are not met, VA will notify the claimant in writing. If VA accepts the residual opt-in, it will notify the claimant in writing. Only claimants who are sent a VA notice accepting a RAMP election will be eligible to participate in RAMP.

Ninety Days After the Date of Publication in the Federal Register, VA will not process a newly discovered residual RAMP election for a claim in the legacy appeals system and the claim will continue to be processed in that system unless and until the claim transitions to the new system through an avenue other than RAMP. Any request to process a residual RAMP election received October 18, 2022 will not be accepted. As a result, this notice announces that the processing of RAMP elections will be discontinued as part of VA's effort to end RAMP in accordance with section 4(c) of the AMA.

The 90-day period established herein does not extend the time period for filing a RAMP election. Rather, this transition period will allow claimants with a residual RAMP election the opportunity to verify that they still want to opt-in to RAMP. Claimants with pending legacy appeals who wish to participate in the AMA but do not submit a valid request in response to this notice may still elect to opt-in to the modernized system after receiving a Statement of the Case or Supplemental Statement of the Case, per 38 CFR 3.2400(c)(2).

Claimants who wish to notify VA of a timely, unprocessed RAMP election must send an email to VA at RAMP@VA.gov. Using this dedicated email address will help ensure that VA gives such notification immediate attention. No response to this notice is required. VA will continue to process pending claims and appeals for all claimants, regardless of whether a claimant responds to this notice.

Paperwork Reduction Act

The Paperwork Reduction Act of 1995 (44 U.S.C. 3507) requires that VA consider the impact of paperwork and other information collection burdens imposed on the public. An agency may not conduct or sponsor a collection of information, nor may it impose an information collection requirement, unless it displays a valid Office of Management and Budget (OMB) control number.

VA has determined that there are no new information collection requirements associated with this notice. Approval to collect such information previously was approved by OMB under assigned OMB Control Numbers 2900-0075 and 2900-0734, which have current clearances pursuant to the provisions of the Paperwork Reduction Act of 1995 (44 U.S.C. 3501-3521).

Signing Authority

Denis McDonough, Secretary of Veterans Affairs, approved this document on July 13, 2022, and authorized the undersigned to sign and submit the document to the Office of the Federal Register for publication electronically as an official document of the Department of Veterans Affairs.

Jeffrey M. Martin,
Assistant Director, Office of Regulation Policy & Management, Office of General Counsel, Department of Veterans Affairs.

[FR Doc. 2022-15367 Filed 7-19-22; 8:45 am]

BILLING CODE 8320-01-P